DEPARTMENT OF DEFENSE

Department of the Army; Corps of Engineers

Notice of Availability for the Final Environmental Impact Statement/Environmental Impact Report and a Draft General Conformity Determination for the San Pedro Waterfront Project, Port of Los Angeles, Los Angeles County, CA

AGENCY: Department of the Army—U.S. Army Corps of Engineers, DoD.

ACTION: Notice of availability.

SUMMARY: On September 22, 2008, the U.S. Army Corps of Engineers, Los Angeles District, Regulatory Division (Corps) in coordination with the Los Angeles Harbor Department (LAHD) completed and published the Draft Environmental Impact Statement/Environmental Impact Report (EIS/EIR) for the San Pedro Waterfront Project (Project) in the Port of Los Angeles. The Corps and LAHD considered all comments received in preparing the Final EIS/EIR, which is available for a 30-day review. The Final EIS/EIR includes a draft general conformity determination (see Section 3.2 and Appendix D.7), pursuant to Section 176(c) of the Clean Air Act. A general conformity determination is necessary because Project construction would require Federal action (i.e., issuance of a Corps permit for activities proposed in and over navigable waters and waters of the U.S.) and not all the Federal action's direct and indirect emissions would be below specified de minimis thresholds (40 CFR 93.153(b)). Pursuant to the general conformity regulations (40 CFR part 93, subpart B), general conformity determinations do not have to be included in the EIS and can be separately noticed, but the draft general conformity determination for the Federal action associated with the Project is being included in the Final EIS/EIR in this case.

The Final EIS/EIR, including the draft general conformity determination, is available for public review during the next 30 days at the Los Angeles Harbor Department, 425 South Palos Verdes Street, San Pedro, California, and on the Port's Web site: http://www.portoflosangeles.org, and the draft general conformity determination is available on the Corps' Web site: http://www.spl.usace.army.mil/regulatory/POLA.htm (scroll down to the links under San Pedro Waterfront). In addition, the Final EIS/EIR, including the draft general conformity determination, is available at the following libraries: L.A. Public Library, Central Branch, 630 West 5th Street, Los Angeles, California; L.A. Public Library, San Pedro Branch, 921 South Gaffey Street, San Pedro, California; and L.A. Public Library, Wilmington Branch, 1300 North Avalon, Wilmington, California.

Any comments received by the Corps and LAHD on the Final EIS/EIR or the included draft general conformity determination during the next 30 days will be considered fully before the Corps makes a final general conformity determination and finalizes the Record of Decision (ROD) for the Federal action associated with the Project. The Corps will publish a notice of a final general conformity determination in the Federal Register within 30 days of rendering a final decision. The public can request from the Corps copies of the ROD, which includes responses to comments on the Final EIS/EIR, including any on the draft general conformity determination, following publication of a final general conformity determination and upon execution of the ROD.

FOR FURTHER INFORMATION CONTACT: Questions or comments concerning the Final EIS/EIR or the included draft general conformity determination should be directed within the next 30 days to Dr. Spencer D. MacNeil, Senior Project Manager, North Coast Branch, Regulatory Division, U.S. Army Corps of Engineers, 2151 Alessandro Drive, Suite 110, Ventura, California 93001, (805) 585-2152.

SUPPLEMENTARY INFORMATION: None.

David J. Castanon,
Chief, Regulatory Division, Los Angeles District.

[FR Doc. E9-23235 Filed 9-24-09; 8:45 am]

BILLING CODE 3710-KF-P